DEPARTMENT OF ENERGY

Federal Energy Regulatory Commission

[Docket No. CP25-491-000]

Texas Eastern Transmission, LP; Notice of Schedule for the Preparation of an Environmental Assessment for the Appalachia to Market III Project

On May 15, 2025, Texas Eastern Transmission, LP (Texas Eastern) filed an application in Docket No. CP25-491-000 requesting a Certificate of Public Convenience and Necessity pursuant to Section 7(c) of the Natural Gas Act to construct and operate certain natural gas pipeline facilities. The proposed project is known as the Appalachia to Market III Project (Project) and would provide about 32,000 dekatherms per day from the Appalachian supply basin in Southwest Pennsylvania to delivery points in Pennsylvania. According to Texas Eastern, the project would improve reliability on its system and provide incremental transportation capacity for precedent agreements with two local gas distribution companies to help them meet growing demand.

On May 27, 2025, the Federal Energy Regulatory Commission (Commission or FERC) issued its Notice of Application for the Project. Among other things, that notice alerted agencies issuing federal authorizations of the requirement to complete all necessary reviews and to reach a final decision on a request for a federal authorization within 90 days of the date of issuance of the Commission staff's environmental document for the Project.

This notice identifies Commission staff's intention to prepare an environmental assessment (EA) for the Project and the planned schedule for the completion of the environmental review.¹ The EA will be issued for a 30-day comment period.

¹ For tracking purposes under the National Environmental Policy Act, the unique identification number for documents relating to this environmental review is EAXX-019-20-000-1751971950.

Schedule for Environmental Review

Issuance of EA—October 10, 2025

90-day Federal Authorization Decision Deadline ²—January 8, 2026

² The Commission's deadline applies to the decisions of other federal agencies, and state agencies acting under federally delegated authority, that are responsible for federal authorizations, permits, and other approvals necessary for proposed projects under the Natural Gas Act. Per 18 CFR 157.22(a), the Commission's deadline for other agency's decisions applies unless a schedule is otherwise established by federal law.

If a schedule change becomes necessary, additional notice will be provided so that the relevant agencies are kept informed of the Project's progress.

Project Description

The Appalachia to Market III Project would consist of the construction and abandonment of the following facilities:

• abandon by removal about 2 miles of 24-inch-diameter idled Line 1 pipeline;

• replace the abandoned line with about 2 miles of 36-inch-diameter Line 1 pipeline;

• abandon by removal of an existing pig receiver at Texas Eastern's Bakers Watering Trough Valve Site at the western terminus of the Line 1 pipeline; ³

³ A “pig” is a tool that the pipeline company inserts into and pushes through the pipeline for cleaning the pipeline, conducting internal inspections, or other purposes. A receiver is where pigs are retrieved from the pipeline.

• construct a new pig receiver, 36-inch-diameter valve, and 30-inch-diameter crossover at the eastern terminus of the Line 1 pipeline;

• modify the Bedford Compressor Station, by uprating the existing compressor unit 13E from 26,000 horsepower to 35,500 horsepower, installing a new emergency shut down gas conditioning skid, and changing impellers on existing compressor units 11E and 12E; and

• install related appurtenances.

Background

On June 25, 2025, the Commission issued a Notice of Scoping Period Requesting Comments on Environmental Issues for the Proposed Appalachia to Market III Project (Notice of Scoping). The Notice of Scoping was sent to affected landowners; federal, state, and local government agencies; elected officials; Native American tribes; other interested parties; and local libraries and newspapers. To date, no comments in response to the Notice of Scoping have been received.

Additional Information

In order to receive notification of the issuance of the EA and to keep track of formal issuances and submittals in specific dockets, the Commission offers a free service called eSubscription. This service provides automatic notification of filings made to subscribed dockets, document summaries, and direct links to the documents. Go to https://www.ferc.gov/ferc-online/overview to register for eSubscription.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Additional information about the Project is available from the Commission's Office of External Affairs at (866) 208-FERC or on the FERC website (www.ferc.gov). Using the “eLibrary” link, select “General Search” from the eLibrary menu, enter the selected date range and “Docket Number” excluding the last three digits (i.e., CP25-491), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: July 14, 2025.
Debbie-Anne A. Reese,
Secretary.

[FR Doc. 2025-13442 Filed 7-16-25; 8:45 am]

BILLING CODE 6717-01-P